DEPARTMENT OF THE INTERIOR

Bureau of Land Management

[LLCO923000-L14400000-ET0000 15X; COC-024224]

Public Land Order No. 7833; Withdrawal of Public Lands, Browns Canyon Corridor, Colorado

AGENCY: Bureau of Land Management, Interior.

ACTION: Public Land Order.

SUMMARY: This order withdraws 230.08 acres of public lands from location and entry under the United States mining laws for 20 years on behalf of the Bureau of Land Management to protect scenic, recreational, and other natural resource values within the Browns Canyon corridor of the Arkansas River. The lands have been and will remain open to leasing under the mineral and geothermal leasing laws.

DATES: Effective Date: March 24, 2015.

FOR FURTHER INFORMATION CONTACT: Steve Craddock, Bureau of Land Management Colorado State Office, 303-239-3707, or write: Land Tenure Program Lead, BLM Colorado State Office, 2850 Youngfield Street, Lakewood, Colorado 80215-7093. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The Bureau of Land Management will manage the Browns Canyon corridor of the Arkansas River to protect the unique natural, scenic, cultural, and recreational values.

Order

By virtue of the authority vested in the Secretary of the Interior by Section 204 of the Federal Land Policy and Management Act of 1976, 43 U.S.C. 1714, it is ordered as follows:

1. Subject to valid existing rights, the following described public lands are hereby withdrawn from location and entry under the United States mining laws, but not from leasing under the mineral or geothermal leasing laws, to protect the unique natural, scenic, cultural, and recreational values in the Browns Canyon corridor of the Arkansas River:

New Mexico Principal Meridian

T. 51 N., R. 8 E.,

Sec. 26, SE¼SW¼SW¼, and that portion of the NE¼SW¼, SE¼SW¼, W½SW¼SE¼ lying south of the Browns Canyon National Monument Boundary;

Sec. 34, S½NE¼NE¼ and SE¼NE¼;

Sec. 35, N½NW¼ and N½SW¼NW¼.

The areas described aggregate 230.08 acres, more or less, in Chaffee County.

2. The withdrawal made by this order does not alter the applicability of the public land laws other than the mining laws.

3. This withdrawal will expire 20 years from the effective date of this order, unless, as a result of a review conducted before the expiration date pursuant to Section 204(f) of the Federal Land Policy and Management Act of 1976, 43 U.S.C. 1714(f), the Secretary determines that the withdrawal shall be extended.

Dated: March 24, 2015.
Janice M. Schneider,
Assistant Secretary—Land and Minerals Management.

[FR Doc. 2015-07735 Filed 4-3-15; 8:45 am]

BILLING CODE 4310-JB-P